DEPARTMENT OF VETERANS AFFAIRS

[OMB Control No. 2900-0160]

Agency Information Collection Activity Under OMB Review: State Home Programs for Veterans

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0160.”

FOR FURTHER INFORMATION CONTACT: Maribel Aponte, Office of Enterprise and Integration, Data Governance Analytics (008), 810 Vermont Avenue NW, Washington, DC 20420, (202) 266-4688 or email maribel.aponte@va.gov. Please refer to “OMB Control No. 2900-0160” in any correspondence.

SUPPLEMENTARY INFORMATION:

Authority: 44 U.S.C. 3501-3521.

Title: State Home Programs for Veterans (VA Forms 10-5588, 10-5588A, and 10-10SH).

OMB Control Number: 2900-0160.

Type of Review: Revision of a currently approved collection.

Abstract: Authority for this information collection can be found in two public laws affecting State homes: Public Law 115-159, the State Veterans Home Adult Day Health Care Improvement Act of 2017, which requires VA to pay State Veteran Homes (SVHs) for medical model adult day health care provided to certain eligible Veterans; and Public Law 116-315, section 3007, Waiver of Requirements of Department of Veterans Affairs for Receipt of Per Diem Payments for Domiciliary Care at State Homes and Modification of Eligibility for such Payments. This information collection also enables the payment of per diem to State homes that provide care to eligible Veterans in accordance with title 38, CFR part 51. The intended effect of these provisions is to create a safeguard that Veterans are receiving a high quality of care in SVHs.

To ensure that high quality care is furnished to Veterans, VA requires those facilities providing nursing home care, domiciliary care, and adult day health care programs to Veterans to supply various kinds of information. The information required includes an application and justification for payment; records and reports that facility management must maintain regarding payment activities of residents or participants; and records and reports that facilities management and health care professionals must maintain regarding eligible residents or participants. The following three forms are included in this information collection:

a. VA Form 10-5588: State Home Report and Statement of Federal Aid Claimed—38 CFR 51, 52 and title 38 U.S.C. 1741, 1742, 1743 and 1745—is used to assess and provide per diem to State homes. This collection instrument is used by the State home employees and VA Staff.

b. VA Form 10-5588A: Claim for Increased Per Diem Payment for Veterans Awarded Retroactive Service Connection—38 CFR 51, 52 and title 38 U.S.C. 1741, 1742, 1743 and 1745—is used to assess and provide per diem to State homes retroactively. This collection instrument is used by the State home employees and VA Staff.

c. VA Form 10-10SH: State Home Program Application for Veterans Care Medical Certification—38 CFR 51, 52 and title 38 U.S.C. 1741, 1742, 1743 and 1745—provides for the collection of information to apply for the benefits of this program.

The State Home Per Diem (SHPD) Program recently automated the 10-10SH form. The form was converted into a web-based, fillable form that can be electronically submitted from the SVH to the appropriate VAMC. It includes data field validation, assuring that all required fields have been filled before the user can electronically submit the 10-10SH form. The VA portion of the application also includes business rules to assist the VA representatives in making uniform determinations, allow the VA representative to return incomplete applications to the SVH along with a notification to them, and record receipt of the completed application.

An agency may not conduct or sponsor, and a person is not required to respond to a collection of information unless it displays a currently valid OMB control number. The Federal Register Notice with a 60-day comment period soliciting comments on this collection of information was published at 88 FR 118 on June 21, 2023, pages 40402 and 40403.

Total Annual Burden: 4,816 hours.

Total Annual Responses: 13,614.

VA Form 10-5588

Affected Public: State, local, and Tribal governments.

Estimated Annual Burden: 834 hours.

Estimated Average Burden per Respondent: 30 minutes.

Frequency of Response: Monthly.

Estimated Number of Respondents: 139.

VA Form 10-5588A

Affected Public: State, local, and Tribal governments.

Estimated Annual Burden: 180 hours.

Estimated Average Burden per Respondent: 20 minutes.

Frequency of Response: Monthly.

Estimated Number of Respondents: 45.

VA Form 10-10SH

Affected Public: State, local, and Tribal governments.

Estimated Annual Burden: 3,802 hours.

Estimated Average Burden per Respondent: 20 minutes.

Frequency of Response: Once annually.

Estimated Number of Respondents: 11,406.

By direction of the Secretary:
Maribel Aponte,
VA PRA Clearance Officer, Office of Enterprise and Integration, Data Governance Analytics, Department of Veterans Affairs.

[FR Doc. 2023-18533 Filed 8-28-23; 8:45 am]

BILLING CODE 8320-01-P